DEPARTMENT OF TRANSPORTATION

Federal Aviation Administration

Intent To Prepare an Environmental Impact Statement and To Hold Environmental Scoping Meetings for Extension of Runway 5-23 and Other Airport Improvement Projects at Providence-T.F. Green Airport, Warwick, RI

AGENCY: Federal Aviation Administration, DOT.

ACTION: Notice of public environmental scoping meetings.

SUMMARY: The Federal Aviation Administration (FAA) is issuing notice to advise the public that an Environmental Impact Statement (EIS) will be prepared for airport projects proposed by the Rhode Island Airport Corporation (RIAC). These projects include an extension of Runway 5-23 and other projects included in the T.F. Green Airport Master Plan. To ensure that all significant issues related to the proposed action are identified, public scoping meetings will be held.

FOR FURTHER INFORMATION CONTACT: John Silva, Manager, Environmental Programs, Airports Division, New England Region, Federal Aviation Administration, 12 New England Executive Park, Burlington, Massachusetts 01803. Telephone number: (617) 238-7602.

SUPPLEMENTARY INFORMATION: Public scoping meeting were first held on July 25, 2002. After initial work commenced on the EIS for the Airport Improvements at T.F. Green Airport, the EIS was postponed while additional airport master planning was undertaken, and the Airport Master Plan was revised to advance a long-term need for a major extension of Runway 5-23 to a reasonably foreseeable project in the nearer term. Because an environmental evaluation of a major extension of Runway 5-23 was not part of the 2002 Scope of Work for the EIS, FAA is conducting additional public scoping. This project and other proposed projects have the potential for significant adverse environmental effects, including aircraft noise, community disruption, and wetlands fill. Comments and suggestions are invited from federal, state, and local agencies and other interested parties in order to ensure that a full range of issues related to the proposed projects are identified and addressed in the scope of work for the EIS. Comments and suggestions may be mailed to FAA at the above address.

Public Scoping Meetings: In order to provide public input, a scoping meeting for Federal, State, and local governmental agencies will be held on Tuesday, February 8, 2005, at 1 p.m. at the Radisson Airport Hotel, 2081 Post Road, Warwick, Rhode Island.

An additional meeting to receive general public input will be held the same day at the same location, between 5 and 8 p.m. The format of this meeting will permit attendance anytime during this period. Attendees should allow for at least one hour. FAA recommends that commenters place emphasis on the extension of Runway 5-23 at these scoping meetings, since other projects in the EIS were the subject of public comment and input in 2002. Representatives of Federal, State, and local governmental agencies are encouraged to attend both events. Additional information may be obtained by contacting FAA at the above address or telephone number.

Issued in Burlington, Massachusetts, on January 4, 2005.
LaVerne F. Reid,
Acting Manager, Airports Division, FAA, New England Region.

[FR Doc. 05-968 Filed 1-18-05; 8:45 am]

BILLING CODE 4910-13-M